Title 3—

The President

Proclamation 7637 of January 10, 2003

To Modify Duty-Free Treatment Under the Generalized System of Preferences

By the President of the United States of America

A Proclamation

Pursuant to section 502 of the Trade Act of 1974, as amended (the “1974 Act”) (19 U.S.C. 2462), the President is authorized to designate countries as beneficiary developing countries, and to designate any beneficiary developing country as a least-developed beneficiary developing country, for purposes of the Generalized System of Preferences (GSP).

Pursuant to section 503(c)(1) of title V of the 1974 Act (19 U.S.C. 2463(c)(1)), the President may withdraw, suspend, or limit the application of duty-free treatment accorded under this title with respect to any article.

Section 503(d)(5) of the 1974 Act (19 U.S.C. 2463(d)(5)) provides that any waiver granted under section 503(d) of the 1974 Act (19 U.S.C. 2463(d)) shall remain in effect until the President determines that such waiver is no longer warranted due to changed circumstances.

Section 506A(b)(1) of the 1974 Act (19 U.S.C. 2466a(b)(1)) authorizes the President to provide duty-free treatment for any article described in section 503(b)(1)(B) through (G) of the 1974 Act (19 U.S.C. 2463(b)(1)(B)-(G)) that is the growth, product, or manufacture of a designated beneficiary sub-Saharan African country, if, after receiving the advice of the United States International Trade Commission (USITC), the President determines that such article is not import-sensitive in the context of imports from beneficiary sub-Saharan African countries.

Pursuant to section 502 of the 1974 Act, and taking into account the factors set forth in section 502(c) (19 U.S.C. 2462(c)), I have decided to designate Afghanistan as a beneficiary developing country for purposes of the GSP.

Pursuant to section 502 of the 1974 Act, and having considered the factors set forth in sections 501 and 502(c), I have also decided to designate Afghanistan as a least-developed beneficiary developing country for purposes of the GSP.

Pursuant to section 503(c)(1) of the 1974 Act, and having considered the factors set forth in sections 501 and 502(c), I have determined to withdraw the application of duty-free treatment under the GSP accorded to a certain article from Chile.

Pursuant to section 503(d)(5), I have determined that the waiver granted under section 503(d) to Chile for a certain article is no longer warranted due to changed circumstances.

Pursuant to section 506A(b)(1) of the 1974 Act, and having received the advice of the USITC, I have determined that a certain article is not import-sensitive in the context of imports from beneficiary sub-Saharan African countries. I have decided to provide duty-free treatment to this article when imported from any beneficiary sub-Saharan African country.

Section 604 of the 1974 Act (19 U.S.C. 2483), authorizes the President to embody in the Harmonized Tariff Schedule of the United States (HTS) the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States of America, including title V and section 604 of the 1974 Act (19 U.S.C. 2461-7, 2483), do proclaim that:

(1) In order to reflect in the HTS the addition of Afghanistan as a beneficiary developing country and as a least-developed beneficiary developing country under the GSP, and the withdrawal of duty-free treatment under the GSP accorded to a certain article from Chile, general note 4 to the HTS is modified as provided in section A of the Annex to this proclamation.

(2) In order to provide duty-free treatment for a certain article when imported from a beneficiary sub-Saharan African country, the HTS is modified by amending and sub-dividing the nomenclature of an existing HTS subheading as provided in section B of the Annex to this proclamation.

(3) In order to provide that Chile should not be treated as a beneficiary developing country with respect to a certain eligible article for purposes of the GSP, the Rates of Duty 1-Special subcolumn for the HTS subheading enumerated in section C of the Annex to this proclamation is modified as provided in such section.

(4) A waiver of the application of section 503(c)(2) of the 1974 Act (19 U.S.C. 2463(c)(2)) previously granted to Chile for HTS subheading 0811.20.20 shall be terminated on the date of publication of this proclamation in the Federal Register

(5) Any provisions of previous proclamations and Executive Orders that are inconsistent with the actions taken in this proclamation are superseded to the extent of such inconsistency.

(6) (a) The modifications made by section A of the Annex to this proclamation shall be effective with respect to articles entered, or withdrawn from warehouse for consumption, on or after the dates set forth in that section.

(b) The modifications made by section B of the Annex to this proclamation shall be effective with respect to articles entered, or withdrawn from warehouse for consumption, on or after the fifteenth day after the date of publication of this proclamation in the Federal Register.

(c) The modifications made by section C of the Annex to this proclamation shall be effective with respect to articles entered, or withdrawn from warehouse for consumption, on or after the thirtieth day after the date of publication of this proclamation in the Federal Register.

IN WITNESS WHEREOF, I have hereunto set my hand this tenth day of January, in the year of our Lord two thousand three, and of the Independence of the United States of America the two hundred and twenty-seventh.

B

Billing code 3195-01-P

[FR Doc. 03-941

Filed 1-13-03; 10:38 am]

Billing code 3190-01-C